DEPARTMENT OF DEFENSE

Office of the Secretary of Defense

Defense Business Board (DBB)

AGENCY: Department of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Business Board (DBB) will take place.

DATES: The public meeting of the Board will be held on Thursday, July 16, 2009, beginning at 10:45 a.m. and ending at 11:45 a.m.

ADDRESSES: Pentagon Conference Center, Washington, DC (escort required, see below).

FOR FURTHER INFORMATION CONTACT: For meeting information please contact Ms. Debora Duffy, Defense Business Board, 1155 Defense Pentagon, Room 3C288, Washington, DC 20301-1155, Debora.duffy@osd.mil, (703) 697-2168.

The Board's Designated Federal Officer is Ms. Phyllis Ferguson, Defense Business Board, 1155 Defense Pentagon, Room 3C288, Washington, DC 20301-1155, Phyllis.ferguson@osd.mil, (703) 695-7563.

SUPPLEMENTARY INFORMATION:

(a) Background

At this meeting, the Board will deliberate findings and recommendations from two Task Groups: (1) “An Outreach Plan to Improve Communications with the Defense Industrial Base,” and (2) “A Review of the National Security Personnel System.” The mission of the DBB is to advise the Secretary of Defense on effective strategies for implementation of best business practices of interest to the Department of Defense.

(b) Availability of Materials for the Meeting

A copy of the draft agenda for the July 16, 2009, meeting may be obtained from the Board's Web site at http://www.defenselink.mil/dbb under “Meeting Materials.”

(c) Public's Accessibility to the Meeting

Pursuant to 5 U.S.C. 552b and 41 CFR 102-3.140 through 102-3.165, and the availability of space, this meeting is open to the public. Seating is on a first-come basis. All members of the public who wish to attend the meeting must contact Ms. Duffy at the number listed in this FR notice no later than noon on Thursday, July 9th to register and make arrangements for a Pentagon escort, if necessary. Public attendees requiring escort are to arrive at the Pentagon Metro Entrance by 9:45 a.m. and complete security screening by 10:15 a.m. Security screening requires two forms of identification: (1) A government-issued photo I.D., and 2) any type of secondary I.D. which verifies the individual's name (i.e. debit card, credit card, work badge, social security card).

Special Accommodations: Individuals requiring special accommodations to access the public meeting should contact Ms. Duffy at least five (5) business days prior to the meeting so that appropriate arrangements can be made.

(d) Procedures for Providing Public Comments

Pursuant to 41 CFR 102-3.105(j) and 102-3.140, and section 10(a)(3) of the Federal Advisory Committee Act of 1972, the public or interested organizations may submit written comments to the Board about its mission and topics pertaining to this public session.

Written comments are accepted until the date of the meeting, however, written comments should be received by the DFO at least five (5) business days prior to the meeting date so that the comments may be made available to the Board for their consideration prior to the meeting. Written comments may be submitted via e-mail to defensebusinessboard2@osd.mil and preferably in one of the following formats (Adobe Acrobat or Microsoft Word format). Please note: Since the Board operates under the provisions of the Federal Advisory Committee Act, as amended, all public presentations may be treated as public documents and may be made available for public inspection, up to and including being posted on the Board's Web site.

Dated: June 26, 2009.
Patricia L. Toppings,
OSD Federal Register, Liaison Officer, Department of Defense.

[FR Doc. E9-15594 Filed 7-1-09; 8:45 am]

BILLING CODE P